DEPARTMENT OF VETERANS AFFAIRS

38 CFR Part 21

RIN 2900—AN10

Post-9/11 GI Bill

Correction

In rule document E9-7052 beginning on page 14654 in the issue of Tuesday, March 31, 2009, make the following corrections:

§ 21.4200 [Corrected]

1. On page 14667, in the second column, in §21.4200, under amendatory instruction 21a., “title10, U.S.C.” should read “title 10, U.S.C.”.

§ 21.9650 [Corrected]

2. On page 14687, in the first column, in §21.9650(a)(i), “$50.00 per month” should read “$950.00 per month”.

3. On the same page, in the second column, in §21.9650(b)(2)(i), “$50.00 per month” should read “$950.00 per month”.

[FR Doc. Z9-7052 Filed 4-17-09; 8:45 am]

BILLING CODE 1505-01-D